OFFICE OF MANAGEMENT AND BUDGET

Compliance Assistance Resources and Points of Contact Available to Small Businesses

AGENCY: Office of Management and Budget, Executive Office of the President.

ACTION: Notice.

SUMMARY: In accordance with the Small Business Paperwork Relief Act of 2002 (44 U.S.C. 3520), the Office of Management and Budget (OMB) is publishing a “list of the compliance assistance resources available to small businesses” and a list of the points of contacts in agencies “to act as a liaison between the agency and small business concerns” with respect to the collection of information and the control of paperwork. This information is posted on the following Web site: http://www.business.gov/sbpra.

FOR FURTHER INFORMATION CONTACT: Keith B. Belton, Office of Information and Regulatory Affairs, Office of Management and Budget, E-mail: kbelton@omb.eop.gov, Telephone: (202) 395-4815. Inquiries may be submitted by facsimile to (202) 395-7285.

SUPPLEMENTARY INFORMATION:

A. Background

The Small Business Paperwork Relief Act of 2002 (Pub. L. 107-198) requires OMB to “publish in the Federal Register and make available on the Internet (in consultation with the Small Business Administration) on an annual basis a list of the compliance assistance resources available to small businesses” (44 U.S.C. 3504(c)(6)). In addition, under another provision of this Act, “each agency shall, with respect to the collection of information and the control of paperwork, establish 1 point of contact in the agency to act as a liaison between the agency and small business concerns” (44 U.S.C. 3506(i)(1)).

OMB has, with the active assistance and support of the Small Business Administration (SBA) and the Small Business and Agriculture Enforcement Ombudsman (SBA Ombudsman), assembled a list of the compliance assistance resources available to small businesses. This list is available today on the following Web site: http://www.business.gov/sbpra. There is also a link to this information on the OMB Web site and the SBA Ombudsman's Web site.

Steven D. Aitken,
Acting Administrator, Office of Information and Regulatory Affairs.

[FR Doc. E6-10964 Filed 7-12-06; 8:45 am]

BILLING CODE 3110-01-P